DEPARTMENT OF THE INTERIOR

Bureau of Land Management

[NV-050-5853-ES; N-83051; 8-08807; TAS:14X5232]

Notice of Realty Action: Lease/Conveyance for Recreation and Public Purposes, Clark County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 10 acres of public land in Clark County, Nevada. Gurdwara Baba Deep Singh, Inc. proposes to use the land for a church and fellowship hall.

DATES: Interested parties may submit written comments regarding the proposed lease/conveyance or classification of the lands until January 28, 2008.

ADDRESSES: Mail written comments to the BLM Las Vegas Field Manager, Las Vegas Field Office, 4701 N. Torrey Pines Drive, Las Vegas, NV 89130.

FOR FURTHER INFORMATION CONTACT: Philip Rhinehart, (702) 515-5182.

SUPPLEMENTARY INFORMATION: In accordance with section 7 of the Taylor Grazing Act (43 U.S.C. 315f), and Executive Order No. 6910, the following described land in Clark County, Nevada, has been examined and found suitable for classification for lease and subsequent conveyance under the provisions of the R&PP Act, as amended (43 U.S.C. 869 et seq.):

Mount Diablo Meridian, Nevada.

T. 22 S., R. 61 E.,

Sec. 30, SE ¼ SE¼ SE¼.

The area described contains 10 acres, more or less in Clark County.

In accordance with the R&PP Act, Gurdwara Baba Deep Singh, Inc. filed an application for the above-described 10 acres of public land to be developed for a church and fellowship hall. The plan also includes a patio to be constructed behind the church for outdoor ceremonies and church functions. Additional detailed information pertaining to this application, plan of development, and site plan is in case file N-83051 located at the BLM Las Vegas Field Office, 4701 N. Torrey Pines Drive, Las Vegas, Nevada.

The land is not needed for any Federal purpose. The lease/conveyance is consistent with the Las Vegas Resource Management Plan dated October 5, 1998, and would be in the public interest. The lease/conveyance, when issued, will be subject to the provisions of the R&PP Act and applicable regulations of the Secretary of the Interior, and will contain the following reservations to the United States:

1. A right-of-way for ditches or canals constructed by the authority of the United States, Act of August 30, 1890 (43 U.S.C. 945); and

2. All minerals together with the right to prospect for, mine and remove such deposits from the same under applicable law and such regulations as the Secretary of the Interior may prescribe.

The lease/conveyance will be subject to:

1. Valid existing rights;

2. Right-of-way N-57053 for power line purposes granted to the Nevada Power Company, its successors or assigns, and for telephone line purposes granted to the Central Telephone Company, its successors or assigns, pursuant to the Act of October 21, 1976 (43 U.S.C. 1761);

3. Rights-of-way N-60432 and N-65521 for road purposes, and N-77260 for road and drainage purposes granted to Clark County, its successors or assigns, pursuant to the Act of October 21, 1976 (43 U.S.C. 1761);

4. Right-of-way N-76359 for water pipeline purposes granted to the Las Vegas Valley Water District, its successors or assigns, pursuant to the Act of October 21, 1976 (43 U.S.C. 1761);

5. Right-of-way N-78847 for gas pipeline purposes granted to the Southwest Gas Corporation, its successors or assigns, pursuant to the Act of February 25, 1920 (30 U.S.C. 185 Sec. 28).

On December 13, 2007, the land described will be segregated from all other forms of appropriation under the public land laws, including the general mining laws, except for lease/conveyance under the R&PP Act, leasing under the mineral leasing laws, and disposal under the mineral material disposal laws.

Interested parties may submit comments involving the suitability of the land for a church and fellowship hall. Comments on the classification are restricted to whether the land is physically suited for the proposal, whether the use will maximize the future use or uses of the land, whether the use is consistent with local planning and zoning, or if the use is consistent with State and Federal programs.

Interested parties may submit comments regarding the specific use(s) proposed in the application and plan of development, whether the BLM followed proper administrative procedures in reaching the decision to lease/convey under the R&PP Act, or any other factor not directly related to the suitability of the land for R&PP use.

Only written comments submitted by postal service or overnight mail to the Field Manager, BLM Las Vegas Field Office will be considered properly filed. Electronic mail, facsimiles, or telephone comments will not be considered properly filed. Comments, including names and addresses of respondents, will be available for public review. Before including your address, telephone number, email address, or other personal identifying information in your comment, be advised that your entire comment—including your personal identifying information—may be made publicly available at any time. While you can ask us in your comment to withhold your personal identifying information from public review, we cannot guarantee that we will be able to do so.

Any adverse comments will be reviewed by the BLM Nevada State Director. In the absence of any adverse comments, the classification of the land described in this notice will become effective February 11, 2008. The land will not be available for lease/conveyance until after the classification becomes effective.

(Authority: 43 CFR part 2740)

Dated: December 6, 2007.
Mark R. Chatterton,
Assistant Field Manager, Non-Renewable Resources, Las Vegas Field Office, NV.

[FR Doc. E7-24147 Filed 12-12-07; 8:45 am]

BILLING CODE 4310-HC-P